DEPARTMENT OF ENERGY

Federal Energy Regulatory Commission

[Docket No. RP01-245-016]

Transcontinental Gas Pipe Line Corporation; Notice of Technical Conference

June 27, 2006.

Take notice that the Commission will convene a technical conference on Monday, July 24, 2006, at 9 a.m. (EDT), in a room to be designated at the offices of the Federal Energy Regulatory Commission, 888 First Street, NE., Washington DC 20426.

The Commission's May 30, 2006 order in this proceeding established a technical conference to address the issue of the appropriate method of conducting pooling in Transco's Zone 4.¹ The order found that there are certain aspects of the operation of the current Zone 4 pool at Station 85 that were unclear from the present record. The Commission found that a technical conference will provide an opportunity to clarify the present operation of the Station 85 pooling point and consider whether improvements could be made in the way pooling is conducted in Zone 4.

¹ Transcontinental Gas Pipe Line Corporation, 115 FERC ¶ 61, 268 (2006).

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend.

For Further Information Contact:

David Faerberg at (202) 502-8275 or e-mail david.faerberg@ferc.gov.

Magalie R. Salas,
Secretary.

[FR Doc. E6-10990 Filed 7-12-06; 8:45 am]

BILLING CODE 6717-01-P